DEPARTMENT OF HEALTH AND HUMAN SERVICES

Administration for Children and Families

Proposed Information Collection Activity; Federal Case Registry (FCR) (OMB #0970-0421)

AGENCY: Office of Child Support Enforcement, Administration for Children and Families, HHS.

ACTION: Request for public comment.

SUMMARY: The Administration for Children and Families (ACF) is requesting a 3-year extension of the Federal Case Registry (FCR). There are no changes to the collection instruments used for the FCR (current Office of Management and Budget (OMB) approval expires January 31, 2021).

DATES: Comments due within 60 days of publication. In compliance with the requirements of Section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research and Evaluation (OPRE), 330 C Street SW, Washington, DC 20201, Attn: ACF Reports Clearance Officer. All requests, emailed or written, should be identified by the title of the information collection.

SUPPLEMENTARY INFORMATION: Description: ACF implemented the FCR within the Federal Parent Locator Service (FPLS) on October 1, 1998, pursuant to federal law. The FCR is a national database of information pertaining to child support cases processed by state child support agencies, referred to as “IV-D” cases, and non-IV-D support orders privately established or modified by courts or tribunals on or after October 1, 1998. FCR information is submitted by each State Case Registry (SCR), which is a central registry of child support orders and cases. The FCR automatically compares new SCR submissions to existing FCR information and notifies state agencies if an IV-D case participant in the state appears as a participant in an IV-D or non-IV-D case in another state.

Respondents: State child support enforcement agencies.

Annual Burden Estimates
Instrument | Total number of respondents | Total number of responses per respondent | Average burden hours per response | Annual burden hours
Appendix G: Input Record Layout | 54 | 151 | 0.0333 | 272

Estimated Total Annual Burden Hours: 272.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: The information collection activities pertaining to the FCR are authorized by: 42 U.S.C. 653(h), which requires the establishment of the FCR within the FPLS; 42 U.S.C. 654a(e), which requires state child support agencies to include a SCR in the state's automated system; and 42 U.S.C. 654a(f)(1), which requires states to conduct information comparison activities between the SCR and the FCR.

Mary B. Jones,
ACF/OPRE Certifying Officer.

[FR Doc. 2020-11578 Filed 5-28-20; 8:45 am]

BILLING CODE 4184-41-P